DEPARTMENT OF AGRICULTURE

Submission for OMB Review; Comment Request

May 2, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 6, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Swine Hides, Bird Trophies, and Deer Hides.

OMB Control Number: 0579-0307.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of Public Law 107-171, May 13, 2002, the Farm Security and Rural Investment Act of 2002. The Animal and Plant Health Inspection Service (APHIS) protects the health of the U.S. livestock and poultry population. Title 9 of the Code of Federal Regulations, parts 91 through 99, governs the importation of animals, birds, and poultry; certain animal and poultry products; and animal germplasm. These regulations place certain restrictions on the importation of hides and bird trophies to prevent an incursion of foreign animal diseases into the United States.

Need and Use of the Information: APHIS will collect information from forms, certificates, and written statements, to ensure that bird trophies and certain animal hides pose a negligible risk of introducing certain contagious, infectious, or communicable animal diseases into the United States. If this information is not collected, it would significantly hinder APHIS's ability to ensure that these commodities pose a minimal risk of introducing foreign animal diseases into the United States.

Description of Respondents: Foreign Government; Business or other for-profit.

Number of Respondents: 264.

Frequency of Responses: Reporting; On occasion.

Total Burden Hours: 248.

Animal and Plant Health Inspection Service

Title: Permanent, Privately Owned Horse Quarantine Facilities.

OMB Control Number: 0579-0313.

Summary of Collection: The Animal Health Protection Act (AHPA) of 2002 is the primary Federal law governing the protection of animal health. The AHPA is contained in Title X, Subtitle E, Section 10401-19 of Public Law 107-171, May 13, 2002, the Farm Security and Rural Investment Act of 2002. The law gives the Secretary of Agriculture broad authority to detect, control, or eradicate pests or diseases of livestock or poultry. The Animal and Plant Health Inspection Service (APHIS) regulations in subpart C of part 93, on the importation of horses include requirements for the approval and establishment of permanent, privately owned horse quarantine facilities that are operated under APHIS supervision. These regulations necessitate the use of several information collection activities when applicants apply for approval to establish and operate permanent, privately owned quarantine facilities for horses.

Need and Use of the Information: APHIS will collect the following information: (1) Environment Certification, (2) Application for Facility Approval, (3) Service Agreements, (4) Letter Challenging Withdrawal for Facility Approval, (5) Letter Notifying APHIS of Facility Closure, (6) Compliance Agreement, (7) Security Instructions, (8) Alarm Notification, (9) Security Breach, (10) List of Personnel, (11) Signed Statements, (12) Daily Log, and (13) Request for Variance. Without the information APHIS would be unable to approve permanent, privately owned horse quarantine facilities.

Description of Respondents: Business or other for-profit; State, Local or Tribal Government.

Number of Respondents: 6.

Frequency of Responses: Recordkeeping; Reporting: On occasion.

Total Burden Hours: 20.

Ruth Brown,
Departmental Information Collection Clearance Officer.

[FR Doc. 2019-09275 Filed 5-6-19; 8:45 am]

BILLING CODE 3410-34-P